DEPARTMENT OF THE INTERIOR

Fish and Wildlife Service

[FWS-R5-ES-2018-N050; FXES11130500000-189-FF05E00000]

Endangered and Threatened Wildlife and Plants; Initiation of 5-Year Reviews of 19 Northeastern Species

AGENCY: Fish and Wildlife Service, Interior.

ACTION: Notice of initiation of reviews; request for information.

SUMMARY: We, the U.S. Fish and Wildlife Service (Service), are initiating 5-year reviews under the Endangered Species Act, as amended (ESA), for 19 northeastern species. A 5-year review is based on the best scientific and commercial data available at the time of the review. We are requesting submission of any such information that has become available since the previous 5-year review for each species.

DATES: To ensure consideration, please submit your written information by September 7, 2018. However, we will continue to accept new information about any listed species at any time.

ADDRESSES: For instructions on how and where to submit information, see Request for Information and Table 2—Contacts under SUPPLEMENTARY INFORMATION.

FOR FURTHER INFORMATION CONTACT: For information regarding a particular species, contact the appropriate person or office listed in Table 2—Contacts in SUPPLEMENTARY INFORMATION. For general information, contact Mary Parkin, by U.S. mail at U.S. Fish and Wildlife Service, 300 Westgate Center Drive, Hadley, MA 01035; by telephone at 617-417-3331; or by electronic mail at mary_parkin@fws.gov.

SUPPLEMENTARY INFORMATION: We, the Service, are initiating 5-year reviews under the ESA (16 U.S.C. 1531 et seq.) for 19 northeastern species: The endangered sandplain gerardia, roseate tern (northeastern North American population), Roanoke logperch, Virginia big-eared bat, dwarf wedgemussel, northern riffleshell, clubshell, purple bean, Peter's Mountain mallow, Furbish's lousewort, and northeastern bulrush, and the threatened Puritan tiger beetle, northeastern beach tiger beetle, flat-spired three-toothed (=Cheat) snail, Chittenango ovate amber snail, bog turtle (northern population), American hart's-tongue fern, Knieskern's beaked-rush, and Virginia sneezeweed.

A 5-year review is based on the best scientific and commercial data available at the time of the review. We are requesting submission of any such information that has become available since the most recent status review for each species.

Why do we conduct 5-year reviews and species status assessments?

Under the ESA (16 U.S.C. 1531 et seq.), we maintain Lists of Endangered and Threatened Wildlife and Plants (which we collectively refer to as the List). Listed wildlife and plants can be found at http://ecos.fws.gov/tess_public/pub/listedAnimals.jsp and http://ecos.fws.gov/tess_public/pub/listedPlants.jsp, respectively. Section 4(c)(2)(A) of the ESA requires us to review each listed species' status at least once every 5 years. Our regulations at 50 CFR 424.21 require that we publish a notice in the Federal Register announcing species under active review. For additional information about 5-year reviews, refer to our fact sheet at http://www.fws.gov/endangered/what-we-do/recovery-overview.html.

What species are under review?

We are initiating 5-year status reviews of the species in table 1.

Table 1—Species Under Review
Common name | Scientific name | Status | Where listed | Listing date and citation
Animals
Roseate tern | Sterna dougallii dougallii | Endangered | Northeastern North American population (CT, ME, MA, NJ, NY, NC, RI, VA) | 52 FR 42064; 11/02/1987.
Roanoke logperch | Percina rex | Endangered | Wherever found | 54 FR 34468; 08/18/1989.
Virginia big-eared bat | Corynorhinus (=plecotus) townsendii virginianus | Endangered | Wherever found | 44 FR 69206; 11/30/1979.
Dwarf wedgemussel | Alasmidonta heterodon | Endangered | Wherever found | 55 FR 9447; 03/14/1990.
Northern riffleshell | Epioblasma torulosa rangiana | Endangered | Wherever found | 58 FR 5638; 01/22/1993.
Clubshell | Pleurobema clava | Endangered | Wherever found | 58 FR 5638; 01/22/1993.
Purple bean | Villosa perpurpurea | Endangered | Wherever found | 62 FR 1647; 01/10/1997.
Puritan tiger beetle | Cicindela puritana | Threatened | Wherever found | 55 FR 32088; 08/07/1990.
Northeastern beach tiger beetle | Cicindela dorsalis dorsalis | Threatened | Wherever found | 55 FR 32088; 08/07/1990.
Flat-spired three-toothed (=Cheat) snail | Triodopsis platysayoides | Threatened | Wherever found | 43 FR 28932; 07/03/1978.
Chittenango ovate amber snail | Novisuccinea chittenangoensis | Threatened | Wherever found | 43 FR 28932; 07/03/1978.
Bog turtle | Glyptemys [= Clemmys] muhlenbergii | Threatened | Northern population (CT, DE, MD, MA, NJ, NY, PA) | 62 FR 59605; 11/04/1997.
Plants
Sandplain gerardia | Agalinis acuta | Endangered | Wherever found | 53 FR 34701; 09/07/1988.
Peter's Mountain mallow | Iliamna corei | Endangered | Wherever found | 56 FR 32978; 07/18/1991.
Furbish's lousewort | Pedicularis furbishiae | Endangered | Wherever found | 51 FR 17343; 05/12/1986.
Northeastern bulrush | Scirpus ancistrochaetus | Endangered | Wherever found | 56 FR 21091; 05/07/1991.
American hart's-tongue fern | Asplenium scolopendrium var. americanum | Threatened | Wherever found | 54 FR 29726; 07/14/1989.
Knieskern's beaked-rush | Rhynchospora knieskernii | Threatened | Wherever found | 56 FR 32978; 07/18/1991.
Virginia sneezeweed | Helenium virginicum | Threatened | Wherever found | 63 FR 59239; 11/03/1998.

What information do we consider in our 5-year reviews and SSAs?

A 5-year review considers all new information available at the time of the review. In conducting the review, we consider the best scientific and commercial data that have become available since the most recent status review. We are seeking new information specifically regarding:

(1) Species biology, including but not limited to life history and habitat requirements and impact tolerance thresholds;

(2) Historical and current population conditions, including but not limited to population abundance, trends, distribution, demographics, and genetics;

(3) Historical and current habitat conditions, including but not limited to amount, distribution, and suitability;

(4) Historical and current threats, threat trends, and threat projections in relation to the five listing factors (as defined in section 4(a)(1) of the ESA);

(5) Conservation measures for the species that have been implemented or are planned; and

(6) Other new information, data, or corrections, including but not limited to taxonomic or nomenclatural changes, identification of erroneous information contained in the List, and improved analytical methods.

Any new information received will be considered during the 5-year review and will also be useful in evaluating ongoing recovery programs for the species.

Request for New Information

To ensure that 5-year reviews are based on the best available scientific and commercial information, we request new information from all sources. If you submit information, please support it with documentation such as maps, bibliographic references, methods used to gather and analyze the data, and/or copies of any pertinent publications, reports, or letters by knowledgeable sources.

How do I ask questions or provide information?

Please submit your questions, comments, and materials to the appropriate contact in table 2. Individuals who are hearing impaired or speech impaired may call the Federal Relay Service at 800-877-8339 for TTY assistance.

Public Availability of Comments

Before including your address, phone number, electronic mail address, or other personal identifying information in your submission, you should be aware that your entire submission—including your personal identifying information—may be made publicly available at any time. Although you can request that personal information be withheld from public review, we cannot guarantee that we will be able to do so.

Materials received will be available for public inspection, by appointment, during normal business hours at the offices where the information is submitted.

Contacts

New information on the species covered in this notice should be submitted by mail or electronic mail to the appropriate contact person within the timeframe provided in DATES.

Table 2—Contacts
Species | Contact person, phone, email | Contact address
Roseate tern | Susi von Oettingen, 603-223-2541, extension 22, susi_vonoettingen@fws.gov | U.S. Fish and Wildlife Service, New England Field Office, 70 Commercial Street, Suite 300, Concord, NH 03301.
Chittenango ovate amber snail | Robyn Niver, 607-299-0620, robyn_niver@fws.gov | U.S. Fish and Wildlife Service, New York Field Office, 3817 Luker Road, Cortland, NY 13045.
Roanoke logperch | Sumalee Hoskin, 804-824-2414, sumalee_hoskin@fws.gov | U.S. Fish and Wildlife Service, Virginia Field Office, 6669 Short Lane, Gloucester, VA 23061.
Virginia big-eared bat | Barbara Douglas, 304-636-6586, extension 19, barbara_douglas@fws.gov | U.S. Fish and Wildlife Service, West Virginia Field Office, 694 Beverly Pike, Elkins, WV 26241.
Dwarf wedgemussel | Sandra Doran, 607-753-9334, extension 0586, sandra_doran@fws.gov | U.S. Fish and Wildlife Service, New York Field Office, 3817 Luker Road, Cortland, NY 13045.
Northern riffleshell | Robert Anderson, 814-234-4090, extension 7447, robert_m_anderson@fws.gov | U.S. Fish and Wildlife Service, Pennsylvania Field Office, 110 Radnor Road, Suite 101, State College, PA 16801.
Clubshell | Robert Anderson, 814-234-4090, extension 7447, robert_m_anderson@fws.gov | U.S. Fish and Wildlife Service, Pennsylvania Field Office, 110 Radnor Road, Suite 101, State College, PA 16801.
Purple bean | Jordan Richard, 276-623-1233, extension 15, jordan_richard@fws.gov | U.S. Fish and Wildlife Service, Southwestern Virginia Field Office, 330 Cummings Street, Abingdon, VA 24210.
Puritan tiger beetle | Cherry Keller, 410-573-4532, cherry_keller@fws.gov | U.S. Fish and Wildlife Service, Chesapeake Bay Field Office, 177 Admiral Cochrane Drive, Annapolis, MD 21401.
Northeastern beach tiger beetle | Jennifer Stanhope, 804-824-2408, Jennifer_stanhope@fws.gov | U.S. Fish and Wildlife Service, Virginia Field Office, 6669 Short Lane, Gloucester, VA 23061.
Flat-spired three-toothed snail (Cheat snail) | Barbara Douglas, 304-636-6586, extension 19, barbara_douglas@fws.gov | U.S. Fish and Wildlife Service, West Virginia Field Office, 694 Beverly Pike, Elkins, WV 26241.
Bog turtle | Noelle Rayman-Metcalf, 607-753-9334, noelle_rayman@fws.gov | U.S. Fish and Wildlife Service, New York Field Office, 3817 Luker Road, Cortland, NY 13045.
Sandplain gerardia | Steve Sinkevich, 631-286-0485, steve_sinkevich@fws.gov | U.S. Fish and Wildlife Service, Long Island Field Office, 340 Smith Road, Shirley, NY 11967.
Peter's Mountain mallow | Jennifer Stanhope, 804-824-2408, jennifer_stanhope@fws.gov | U.S. Fish and Wildlife Service, Virginia Field Office, 6669 Short Lane, Gloucester, VA 23061.
Furbish's lousewort | Mark McCollough, 207-902-1570, mark_mccollough@fws.gov | U.S. Fish and Wildlife Service, Maine Fish and Wildlife Service Complex, Maine Field Office, P.O. Box A, East Orland, ME 04431.
Northeastern bulrush | Melinda Turner, 814-234-4090, extension 7449, melinda_turner@fws.gov | U.S. Fish and Wildlife Service, Pennsylvania Field Office, 110 Radnor Road, Suite 101, State College, PA 16801.
American hart's-tongue fern | John Wiley, 607-753-9334, john_wiley@fws.gov | U.S. Fish and Wildlife Service, New York Field Office, 3817 Luker Road, Cortland, NY 13045.
Knieskern's beaked-rush | Ron Popowski, 609-241-7065, ron_popowski@fws.gov | U.S. Fish and Wildlife Service, New Jersey Field Office, 4 East Jimmie Leeds Road, Suite 4, Galloway, NJ 08205.
Virginia sneezeweed | Jennifer Stanhope, 804-824-2408, jennifer_stanhope@fws.gov | U.S. Fish and Wildlife Service, Virginia Field Office, 6669 Short Lane, Gloucester, VA 23061.

Authority

We publish this document under the authority of the Endangered Species Act of 1973, as amended (16 U.S.C. 1531 et seq.).

Dated: July 16, 2018.
Deborah Rocque,
Acting Regional Director, Northeast Region.

[FR Doc. 2018-16931 Filed 8-7-18; 8:45 am]

BILLING CODE 4333-15-P